DEPARTMENT OF ENERGY

Federal Energy Regulatory Commission

Combined Notice of Filings

Take notice that the Commission has received the following Natural Gas Pipeline Rate and Refund Report filings:

Filings Instituting Proceedings

Docket Numbers: RP16-819-000.

Applicants: Rockies Express Pipeline LLC.

⁵ The estimates for cost per response are derived using the 2015 FERC average salary plus benefits of $149,489/year (or $72.00/hour). Commission staff finds that the work done for this information collection is typically done by wage categories similar to those at FERC.

Description: § 4(d) Rate Filing: Neg Rate 2016-04-02 CP to be effective 4/2/2016.

Filed Date: 4/4/16.

Accession Number: 20160404-5144.

Comments Due: 5 p.m. ET 4/18/16.

Docket Numbers: RP16-820-000.

Applicants: Iroquois Gas Transmission System, L.P.

Description: § 4(d) Rate Filing: 04/04/16 Negotiated Rates—Consolidated Edison Energy Inc. (HUB) 2275-89 to be effective 4/3/2016.

Filed Date: 4/4/16.

Accession Number: 20160404-5213.

Comments Due: 5 p.m. ET 4/18/16.

Docket Numbers: RP16-821-000.

Applicants: Equitrans, L.P.

Description: § 4(d) Rate Filing: Assignment of PDC Mountaineer Agreements to Mountaineer Keystone to be effective 4/1/2016.

Filed Date: 4/5/16.

Accession Number: 20160405-5055.

Comments Due: 5 p.m. ET 4/18/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-451-001.

Applicants: Golden Pass Pipeline LLC.

Description: Compliance filing Revised Tariff Records per 03/29/2016 Order Re: Orders 587-W and 809 to be effective 4/20/2016.

Filed Date: 4/4/16.

Accession Number: 20160404-5264.

Comments Due: 5 p.m. ET 4/18/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2016.
Nathaniel J. Davis, Sr.,
Deputy Secretary.

[FR Doc. 2016-08416 Filed 4-12-16; 8:45 am]

BILLING CODE 6717-01-P